DEPARTMENT OF THE INTERIOR

National Park Service

[NPS-WASO-NAGPRA-17070; PPWOCRADN0-PCU00RP14.R50000]

Notice of Intent To Repatriate Cultural Items: San Francisco State University NAGPRA Program, San Francisco, CA

AGENCY: National Park Service, Interior.

ACTION: Notice.

SUMMARY: The San Francisco State University NAGPRA Program, in consultation with the appropriate Indian tribes or Native Hawaiian organizations, has determined that the cultural items listed in this notice meet the definition of unassociated funerary objects. Lineal descendants or representatives of any Indian tribe or Native Hawaiian organization not identified in this notice that wish to claim these cultural items should submit a written request to the San Francisco State University NAGPRA Program. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the San Francisco State University NAGPRA Program at the address in this notice by December 17, 2014.

ADDRESSES: Jeffrey Boland Fentress, San Francisco State University NAGPRA Program, c/o Department of Anthropology, San Francisco State University, 1600 Holloway Avenue, San Francisco, CA 94132, telephone (415) 338-3075, email fentress@sfsu.edu.

SUPPLEMENTARY INFORMATION: Notice is here given in accordance with the Native American Graves Protection and Repatriation Act (NAGPRA), 25 U.S.C. 3005, of the intent to repatriate cultural items under the control of the San Francisco State University NAGPRA Program that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1960, 1,795 individual and 14 lots of cultural items were removed from site Ca-Sha-169 in Redding, CA, by San Francisco State University personnel in conjunction with construction of the Wintu Pumping Plant as part of the Whiskeytown Reservoir project. Site materials from the Whiskeytown Reservoir project were curated at San Francisco State University after excavation and surface collection. The 1,795 individual and 14 lots of cultural items are 73 olivella beads, 2 haliotis pendants, 4 glycymeris beads, and 1 incised bone (Burial 2); 1 lot of olivella beads (Burials 2 and 3); 3 obsidian projectile points, 638 olivella beads, and 1 abalone pendant (Burial 3); 8 haliotis pendants (Burial 6); 1 lot of olivella beads, and 3 glycymeris beads (Burial 9); 159 olivella beads (Burial 10); 1 obsidian projectile point and 21 olivella beads (Burial 11); 1 obsidian projectile point, 1 mixed lot of unmodified faunal and obsidian debitage, 4 olivella beads, and 1 stone bead (Burial 13); 20 olivella beads (Burial 14); 55 olivella beads and 4 glycymeris beads (Burial 15); 2 obsidian projectile points, 1 chert tool, 3 bone tools, and 12 trade beads (Burial 16); 14 obsidian projectile points and tools, 29 obsidian nodules, 10 olivella beads, and 1 glycymeris beads (Burial 17); 15 olivella beads and 7 individual and 1 lot of glycymeris beads (Burial 18); 1 obsidian projectile point and 1 bone tool (Burial 21 or 2106); 9 olivella beads, 2 clam shell beads, 4 mixed beads (cerithidea, olivella acamea, glycymeris, rectangulus), and 1 haliotis pendant (Burial 23); 1 obsidian projectile point, 1 pestle, 56 individual and 2 lots of olivella beads, 17 haliotis pendants, 4 limpet shell beads, 1 glycmeris bead, 1 lot of trade beads, and 1 worked mammal tooth pendant (Burial 26); 29 individual and 1 lot of olivella beads (Burial 28 and 29); 43 olivella beads and 1 lot of haliotis pendants (Burial 30); 3 obsidian points, 1 pestle, 247 olivella beads, 2 haliotis pendants, 30 glycymeris beads, 3 limpet beads, and 3 pebbles (Burial 31); 1 obsidian projectile point, 18 olivella shell beads, 1 glycymeris bead, and 1 baked clay object (Burial 33); 2 obsidian tools, 4 lots of olivella beads, 1 haliotis pendant, 1 piece of charcoal, and 1 pebble (Burial 35); 1 chert tool, 200 olivella beads, and 1 lot of pine nut beads (Burial 36 and 37); and 1 obsidian point and 14 olivella beads (Burial 39). The human remains associated with these burials are not present at San Francisco State University.

Ca-Sha-169 had archeological assemblages consistent with the Shasta Complex which is considered the archeological representation of the ethnographic Wintu, with a time-depth of circa A.D. 1050. Oral history evidence presented during consultation indicates that the Redding, CA area has been continuously occupied by the Wintu since the contact period and that there is a cultural affiliation between the Redding Rancheria, California, and the ancestral Wintu people.

Determinations Made by the San Francisco State University NAGPRA Program

Officials of the San Francisco State University NAGPRA Program have determined that:

• Pursuant to 25 U.S.C. 3001(3)(B), the 1,795 individual and 14 lots of cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and Redding Rancheria, California.

Additional Requestors and Disposition

Lineal descendants or representatives of any Indian tribe or Native Hawaiian organization not identified in this notice that wish to claim these cultural items should submit a written request with information in support of the claim to Jeffrey Boland Fentress, San Francisco State University NAGPRA Program, c/o Department of Anthropology, San Francisco State University, 1600 Holloway Avenue, San Francisco, CA 94132, telephone (415) 338-3075, email fentress@sfsu.edu, by December 17, 2014. After that date, if no additional claimants have come forward, transfer of control of the unassociated funerary objects to the Redding Rancheria, California may proceed.

The San Francisco State University NAGPRA Program is responsible for notifying the Redding Rancheria, California, and the Pit River Tribe, California (includes XL Ranch, Big Bend, Likely, Lookout, Montgomery Creek and Roaring Creek Rancherias) that this notice has been published.

Dated: October 29, 2014.
Melanie O'Brien,
Acting Manager, National NAGPRA Program.

[FR Doc. 2014-27146 Filed 11-14-14; 8:45 am]

BILLING CODE 4312-50-P